FEDERAL COMMUNICATIONS COMMISSION

Notice of Public Information Collection(s) Being Submitted for Review to the Office of Management and Budget

November 29, 2007.

SUMMARY: The Federal Communications Commission, as part of its continuing effort to reduce paperwork burden, invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before January 9, 2008. If you anticipate that you will be submitting comments, but find it difficult to do so within the period of time allowed by this notice, you should advise the contacts listed below as soon as possible.

ADDRESSES: Direct all PRA comments to Nicholas A. Fraser, Office of Management and Budget, via Internet at Nicholas—A.—Fraser@omb.eop.gov or via fax at (202) 395-5167 and to Leslie F. Smith, Federal Communications Commission, Room 1-C216, 445 12th Street, SW., Washington, DC or via Internet at Leslie.Smith@fcc.gov or PRA@fcc.gov.

To view a copy of this information collection request (ICR) submitted to OMB: (1) Go to the Web page http://www.reginfo.gov/public/do/PRAMain, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the title of this ICR (or its OMB control number, if there is one) and then click on the ICR Reference Number to view detailed information about this ICR.”

FOR FURTHER INFORMATION CONTACT: For additional information about the information collection(s), contact Leslie F. Smith via e-mail at PRA@fcc.gov or call (202) 418-0217.

SUPPLEMENTARY INFORMATION: OMB Control Number: 3060-0806

Title: Universal Service—Schools and Libraries Universal Service Program.

Form Number(s): FCC Forms 470 and 471.

Type of Review: Revision of a currently approved collection.

Respondents: Business or other for-profit entities; institutions and other not-for-profits; and state, local, or tribal governments.

Number of Respondents: 60,000 respondents.

Estimated Time per Response: 10 minutes to 4.5 hours.

Frequency of Response: Annual reporting requirement; recordkeeping; and third party disclosure.

Obligation To Respond: Required to obtain or retain benefits.

Total Annual Burden: 525,003 hours.

Total Annual Cost: $0.00.

Privacy Act Impact Assessment: No impacts.

Nature and Extent of Confidentiality: The Commission is not requesting that the respondents submit confidential information to the FCC. Respondents may, however, request confidential treatment for information they believe to be confidential under 47 CFR 0.459 of the Commission's rules.

Needs and Uses: The Commission's rules under 47 CFR 54.500-54.523, provide support for all telecommunications services, Internet access, and internal connections for all eligible schools and libraries. To participate in the program, schools and libraries must submit a description of the services desired to the Universal Service Administrative Company, the Administrator of the Universal Service Fund, via FCC Form 470. FCC Form 471 is submitted by schools and libraries that have ordered telecommunications services, Internet access, and internal connections. The data are used by the Administrator to determine eligibility. The Administrator also collects an FCC registration number from each school and library. Program participants are also required to retain all records related to the application for, receipt and delivery of discounted services for a period of five years. As noted in the 2007 Comprehensive Review of the Universal Service Fund Management, Administration, and Oversight (“2007 Comprehensive Review”), WC Docket Nos. 05-195, 02-60, 03-109 and CC Docket Nos. 95-45, 02-6, 97-21, FCC 07-150, which was released on August 29, 2007, the Commission is currently conducting inquiries to examine what additional data the Commission wants to collect and what changes should be made to the relevant FCC Forms.

Federal Communications Commission.
Marlene H. Dortch,
Secretary.

[FR Doc. E7-23825 Filed 12-7-07; 8:45 am]

BILLING CODE 6712-01-P